DEPARTMENT OF DEFENSE

Department of the Air Force

Announcement of ICD-GPS-200/IS-GPS-705 Working Group Meeting

AGENCY: Department of the Air Force, DoD.

ACTION: Notice, interested parties may submit requests to attend and participate in this Working Group meeting.

SUMMARY: This notice informs the public that the Global Positioning System (GPS) Joint Program Office (JPO) will be hosting a technical working group meeting to discuss ICD-GPS-200 and IS-GPS-705. Changes to be discussed include:

(1) PIRN-200C-008, which deletes all Letters of Exception except for one, updates calendar year data requirement, clarifies applicable UTC/GPS-time relationships, toa and toe.

(2) Draft IS-GPS-200D and PPIRN-705-001, which describe the Improved Clock and Ephemeris (ICE) message on L2C and L5. The ICE message is the new GPS nav data that will replace the current clock and ephemeris data as indicated in section 30.3.2 of current ICD-GPS-200C.

The meeting will also address those deferred comments from the previous ICWG review of IS-GPS-705.

For those who would like to present material related to ICD-GPS-200 or IS-GPS-705 at the meeting, please submit your agenda item and required length of presentation time to the GPS JPO by 3 Mar. 04. The actual briefing material must be submitted by 17 Mar. 04. Please submit your information to smc.gperc@losangeles.af.mil and include the words, “200/705 Working Group Agenda” in the subject line of your e-mail.

In order to better prepare for the meeting, the GPS JPO requests e-mail notification from all those planning to participate in the meeting. Please submit your name, organization, and contact information to smc.gperc@losangeles.af.mil and include the words, “200/705 Working Group Attendee” in the subject line of your e-mail. More information will be posted on the GPS JPO public Web site: http://gps.losangeles.af.mil. Click on “System Engineering”, then “Public Interface Control Working Group (ICWG)”. Reviewers should save the document to a local memory location prior to opening and performing the review.

Meeting Date and Time: Wed., 24 Mar. 04, 0900-1700; Thurs., 25 Mar. 04, 0900-1600.

Location: ARINC Engineering Services, LLC, 2250 East Imperial Highway, Suite 450, El Segundo, California, U.S.A.

FOR FURTHER INFORMATION CONTACT: GPERC, GPS JPO System Engineering Division via e-mail at smc.gperc@losangeles.af.mil or at 1-310-363-2883.

SUPPLEMENTARY INFORMATION: The civilian and military communities use the Global Positioning System, which employs a constellation of 24 satellites to provide continuously transmitted signals to enable appropriately configured GPS user equipment to produce accurate position, navigation and time information.

Pamela D. Fitzgerald,
Air Force Federal Register Liaison Officer.

[FR Doc. 04-4664 Filed 3-2-04; 8:45 am]

BILLING CODE 5001-05-P